DEPARTMENT OF ENERGY

Federal Energy Regulatory Commission

[Docket No. RP07-521-000]

Northern Border Pipeline Company; Notice of Proposed Changes in FERC Gas Tariff

July 10, 2007.

Take notice that on July 9, 2007, Northern Border Pipeline Company (Northern Border) tendered for filing to be part of its FERC Gas Tariff, First Revised Volume No. 1, the following tariff sheets to become effective August 8, 2007:

Nineteenth Revised Sheet No. 99A

Seventh Revised Sheet No. 405

Eighth Revised Sheet No. 407

Eighth Revised Sheet No. 423

Ninth Revised Sheet No. 425

Fifth Revised Sheet No. 429A

Fifth Revised Sheet No. 429C

Fifth Revised Sheet No. 434

Sixth Revised Sheet No. 436

Sixth Revised Sheet No. 443

Fourth Revised Sheet No. 456

Sixth Revised Sheet No. 457

Fifth Revised Sheet No. 461

Fourth Revised Sheet No. 466

Fifth Revised Sheet No. 468

Fifth Revised Sheet No. 472

Fifth Revised Sheet No. 473

Fourth Revised Sheet No. 479

Sixth Revised Sheet No. 484

First Revised Sheet No. 486

Fourth Revised Sheet No. 488

Northern Border states that the purpose of this filing is to make minor housekeeping changes to Northern Border's Tariff.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of § 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E7-13861 Filed 7-17-07; 8:45 am]

BILLING CODE 6717-01-P